ENVIRONMENTAL PROTECTION AGENCY

[Petitions IV-2016-06 and -07; FRL-9965-57-Region 4]

Clean Air Act Operating Permit Program; Petitions for Objection to State Operating Permits for Duke Energy, LLC—Asheville Steam Electric Plant (Buncombe County, North Carolina) and Roxboro Steam Electric Plant (Person County, North Carolina)

AGENCY: Environmental Protection Agency (EPA).

ACTION: Notice of final orders on petitions to object to state operating permits.

SUMMARY: The EPA Administrator signed two Orders, dated June 30, 2017, granting the petitions submitted by Sierra Club (Petitioner) objecting to proposed Clean Air Act (CAA) title V operating permits issued to Duke Energy, LLC. One Order responds to a June 17, 2016, petition objecting to a proposed title V permit issued by the Western North Carolina Regional Air Quality Agency to the Asheville Steam Electric Plant located in Arden, Buncombe County, North Carolina. The other Order responds to a June 23, 2016, petition objecting to a proposed title V permit issued by the North Carolina Department of Environmental Quality to the Roxboro Steam Electric Plant located near Semora, in Person County, North Carolina. Each Order constitutes a final action on the petition addressed therein.

ADDRESSES: Copies of the Orders, the petitions, and all pertinent information relating thereto are on file at the following location: EPA Region 4; Air, Pesticides and Toxics Management Division; 61 Forsyth Street SW., Atlanta, Georgia 30303-8960. The Orders are also available electronically at the following addresses: https://www.epa.gov/sites/production/files/2017-7/documents/duke_asheville_response2016.pdf, https://www.epa.gov/sites/production/files/2017-07/documents/duke_roxboro_response2016_0.pdf.

FOR FURTHER INFORMATION CONTACT: Art Hofmeister, Air Permits Section, EPA Region 4, at (404) 562-9115 or hofmeister.art@epa.gov.

SUPPLEMENTARY INFORMATION: The CAA affords the EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of the EPA's 45-day review period if EPA has not objected on its own initiative. Petitions must be based only on objections to the permit that were raised with reasonable specificity during the public comment period provided by the state, unless the petitioner demonstrates that it was impracticable to raise these issues during the comment period or the grounds for the issues arose after this period. Pursuant to sections 307(b) and 505(b)(2) of the CAA, a petition for judicial review of those parts of the Order that deny issues in the petition may be filed in the United States Court of Appeals for the appropriate circuit within 60 days from the date this notice is published in the Federal Register.

Petitioner submitted a petition requesting that EPA object to the proposed CAA title V operating permit #11-628-15 issued to the Asheville Steam Electric Plant and a separate petition requesting that EPA object to the proposed title V operating permit #01001T49 issued to the Roxboro Steam Electric Plant. Petitioner claims generally that each permit must contain stricter, modeling-based numerical emission limits for sulfur dioxide (SO2) to prevent exceedances of the 2010 1-hour SO2 National Ambient Air Quality Standard (NAAQS) and must contain a compliance schedule because, according to Petitioner, each facility has violated its current permit by causing violations of the 2010 1-hour SO2 NAAQS. On June 30, 2017, the Administrator issued Orders granting the petitions. The Orders explain EPA's basis for granting the petitions.

Dated: July 19, 2017.
V. Anne Heard,
Acting Regional Administrator, Region 4.

[FR Doc. 2017-16277 Filed 8-1-17; 8:45 am]

BILLING CODE 6560-50-P